DEPARTMENT OF ENERGY

Federal Energy Regulatory Commission

Notice of Exemption Application Ready for Environmental Analysis, and Soliciting Comments, Terms and Conditions, and Recommendations

April 20, 2006.

Take notice that the following hydroelectric exemption application has been filed with the Commission and is available for public inspection.

a. Type of Application: 5-megawatt (MW) Exemption.

b. Project: West Valley A&B Hydro Project No. 12053-001.

c. Date Filed: July 18, 2003.

d. Applicant: Mr. Nicholas Josten.

e. Location: On the South Fork of the Pit River in Modoc County, California. The project would be located on approximately 31 acres of federal lands, managed by Forest Service and Bureau of Land Management.

f. Filed Pursuant to: Public Utility Regulatory Policies Act of 1978, 16 U.S.C. 2705, 2708.

g. Applicant Contact: Mr. Nicholas Josten, 2742 Saint Charles Ave, Idaho Falls, Idaho 83404.

h. FERC Contact: Alan Mitchnick, (202) 502-6074 or alan.mitchnick@ferc.gov.

i. Deadline for filing comments, recommendations, and terms and conditions is 60 days from the issuance date of this notice; reply comments are due 105 days from the issuance date of this notice. Under section 30(c) of the Federal Power Act, exemptions are subject to the mandatory conditioning authority of federal and state fish and wildlife agencies with respect to the mitigation of project impacts on fish and wildlife resources.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, and terms and conditions may be filed electronically via the Internet in lieu of paper. The Commission strongly encourages electronic filings. See 18 CFR 385.2001(a)(1)(iii) and the instructions on the Commission's Web site (http://www.ferc.gov) under the “eFiling” link.

j. This application has been accepted for filing and is now ready for environmental analysis.

k. The proposed project would consist of two developments, West Valley A and West Valley Alternative B-1. Alternative B-2 has been deleted from the proposed project (applicant's response to deficiencies, filed October 25, 2004).

West Valley A run-of river development would have a capacity of 1.0 MW and would consist of: (1) An existing concrete diversion structure; (2) an existing intake structure; (3) 11,600 feet of existing open canal; (4) a proposed concrete overflow structure; (5) proposed 2,800 feet of new canal; (6) a proposed 400-foot-long penstock; (7) a proposed powerhouse; (8) a proposed tailrace pipe; (9) a proposed 3,000-foot-long, 12.3-kilovolt (kV) transmission line; and (10) appurtenant facilities. The applicant estimates that the total average annual generation would be 3,300,000 kilowatt-hours (kWh).

West Valley Alternative B-1 run-of-river development would have a capacity of 1.36 MW and would consists of: (1) The existing West Valley Dam and outlet works; (2) a new bypass valve attached to the existing dam outlet pipe; (3) a proposed 2,850-foot-long penstock; (4) a proposed powerhouse; (5) a proposed tailrace canal; (6) a proposed 4.5-mile-long, 12.3-kV transmission line; and (7) appurtenant facilities. The applicant estimates that the total average annual generation would be 4,730,000 kWh.

l. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item g. above.

You may also register online at http://www.ferc.gov/docs-filing/esubscription.asp to be notified via e-mail of new filings and issuances related to this or other pending projects. For assistance, contact FERC Online Support.

All filings must (1) Bear in all capital letters the title “COMMENTS”, “REPLY COMMENTS”, “RECOMMENDATIONS,” or “TERMS AND CONDITIONS.” (2) set forth in the heading the name of the applicant and the project number of the application to which the filing responds; (3) furnish the name, address, and telephone number of the person submitting the filing; and (4) otherwise comply with the requirements of 18 CFR 385.2001 through 385.2005. All comments, recommendations, or terms and conditions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

m. Procedural schedule: the Commission staff proposes to issue one Environmental Assessment (EA) rather than issuing a draft and final EA. Staff intends to allow 30 days for entities to comment on the EA, and will take into consideration all comments received on the EA before final action is taken on the exemption application. The application will be processed according to the schedule, but revisions to the schedule may be made as appropriate:

Action | Date
Ready for Environmental Analysis Notice | April 2006.
Cultural Resources Additional Information due | July 30, 2006.
Notice of Availability of Environmental Assessment (EA) | September 2006.
Comments on EA due | October 2006.
Ready for Commission Decision on Application | November 2006.

Magalie R. Salas,
Secretary.

[FR Doc. E6-6324 Filed 4-26-06; 8:45 am]

BILLING CODE 6717-01-P